DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Survey of Qualified Nonimmigrants.

OMB Control Number: None.

Form Number(s): None.

Type of Request: New collection.

Burden Hours: 1,502.

Number of Respondents: 5,300.

Average Hours per Response: 17 minutes.

Needs and Uses: The U.S. Census Bureau is requesting approval to conduct a survey of the residents of Guam and the Commonwealth of the Northern Mariana Islands (CNMI) as a means to estimate the stock of qualified nonimmigrants from the Republic of the Marshall Islands, the Federated States of Micronesia, and the Republic of Palau in 2008. According to the Compact of Free Association Act, a qualified nonimmigrant is defined as “* * * a person, or their children under the age of 18, admitted or resident pursuant to section 141 of the US-RMI or US-FSM Compact or section 141 of the Palau Compact who, as of a date referenced in the most recently published enumeration is a resident of an affected jurisdiction.” (Pub. L. 108-188, Sec. 104(e)(2)(B)).

The Compact of Free Association is a joint congressional-executive agreement that states that the U.S. will provide funds to Guam, CNMI, Hawaii and American Samoa for a range of development programs and other benefits that are necessary due to the in-migration of citizens from the Republic of the Marshall Islands, the Federated States of Micronesia, and the Republic of Palau. The Compact of Free Association became effective for citizens of the Republic of the Marshall Islands and the Federated States of Micronesia in 1986, and for citizens of the Republic of Palau in 1994.

The Compact of Free Association Amendments Act of 2003 introduced the requirement for an enumeration of qualified nonimmigrants to be conducted no less frequently than every five years in Guam, CNMI, Hawaii and American Samoa. In accordance with the Compact of Free Association Amendments Act of 2003, the Office of the Insular Affairs of the U.S. Department of the Interior requested the U.S. Census Bureau to produce estimates of such qualified nonimmigrants for 2008.

The Compact of Free Association Amendments Act of 2003 stipulates that $30,000,000 will be made available for grants to help defray the costs to jurisdictions whose health, educational, social, or public safety services are affected by the increase in qualified nonimmigrants from the Republic of the Marshall Islands, the Federated States of Micronesia and the Republic of Palau. To assist in the distribution of funds, an enumeration of the jurisdictions that are affected must be done no less frequently than every five years.

The proposed survey will collect data on place of birth, age, date of birth, sex and year of entry for qualified nonimmigrants residing in Guam and CNMI. Only questions pertaining to the needs of the legislation will be asked. The questionnaire content and data collection procedures will generally follow the American Community Survey (ACS) and Census 2000 procedures. Since data can be obtained for Hawaii from the ACS, it is not cost-effective to include Hawaii in the survey. Because it would be cost prohibitive to design a survey resulting in reliable estimates of the small number of qualified nonimmigrants in American Samoa, the estimate for this area will be derived from existing Census 2000 data.

The jurisdictions outlined in Public Law 108-188 are American Samoa, Guam, the Commonwealth of the Northern Mariana Islands and the State of Hawaii as areas that are to receive funds as part of the Compact of Free Association Amendments Act of 2003.

Affected Public: Individuals or households.

Frequency: One-time.

Respondent's Obligation: Voluntary.

Legal Authority: Compact of Free Association Amendments Act of 2003.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: July 3, 2008.
Gwellnar Banks,
Management Analyst, Office of the Chief Information Officer.

[FR Doc. E8-15572 Filed 7-8-08; 8:45 am]

BILLING CODE 3510-07-P